DEPARTMENT OF ENERGY

Environmental Management Site-Specific Advisory Board, Nevada

AGENCY: Office of Environmental Management, Department of Energy.

ACTION: Notice of open meeting.

SUMMARY: This notice announces an in-person/virtual hybrid meeting of the Environmental Management Site-Specific Advisory Board (EM SSAB), Nevada. The Federal Advisory Committee Act requires that public notice of this meeting be announced in the Federal Register.

DATES: Wednesday, September 11, 2024; 4-8:30 p.m. PDT; The opportunity for public comment is at 4:10 p.m. PDT. This time is subject to change. Please contact the Nevada Site Specific Advisory Board (NSSAB) Administrator listed in the FOR FURTHER INFORMATION CONTACT section of this document for confirmation of time prior to the meeting.

ADDRESSES: Molasky Corporate Center, 15th Floor Conference Room, 100 North City Parkway, Las Vegas, Nevada 89106. This meeting will be open to the public in-person at the Molasky Corporate Center or virtually via Microsoft Teams. To attend virtually, please contact Barbara Ulmer, NSSAB Administrator, by email nssab@emcbc.doe.gov or phone (702) 523-0894, no later than 4 p.m. PDT on Monday, September 9, 2024.

FOR FURTHER INFORMATION CONTACT: Barbara Ulmer, NSSAB Administrator, by phone: (702) 523-0894 or email: nssab@emcbc.doe.gov or visit the Board's internet homepage at www.nnss.gov/NSSAB/.

SUPPLEMENTARY INFORMATION:

Purpose of the Board: The purpose of the Board is to provide advice and recommendations concerning the following EM site-specific issues: clean-up activities and environmental restoration; waste and nuclear materials management and disposition; excess facilities; future land use and long-term stewardship. The Board may also be asked to provide advice and recommendations on any EM program components.

Tentative Agenda

1. Public Comment Period

2. Update from Deputy Designated Federal Officer

3. Update from National Nuclear Security Administration/Nevada Field Office

4. Updates from NSSAB Liaisons

5. Presentations

6. Chair and Vice-Chair Elections

7. Development of Fiscal Year 2025 Work Plan

Public Participation: The in-person/online virtual hybrid meeting is open to the public either in-person at the Molasky Corporate Center or via Microsoft Teams. To sign-up for public comment, please contact the NSSAB Administrator no later than 4 p.m. PDT on Monday, September 9, 2024. In addition to participation in the live public comment session identified above, written statements may be filed with the Board either before or within seven days after the meeting by sending them to the NSSAB Administrator at the aforementioned email address. Written public comment received prior to the meeting will be read into the record. The Deputy Designated Federal Officer is empowered to conduct the meeting in a fashion that will facilitate the orderly conduct of business. Individuals wishing to make public comments can do so in 2-minute segments for the 15 minutes allotted for public comments.

Minutes: Minutes will be available by writing or calling Barbara Ulmer, NSSAB Administrator, U.S. Department of Energy, EM Nevada Program, 100 North City Parkway, Suite 1750, Las Vegas, NV 89106; Phone: (702) 523-0894. Minutes will also be available at the following website: https://www.nnss.gov/nssab/nssab-meetings/.

Signing Authority: This document of the Department of Energy was signed on August 12, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 13, 2024.
Treena V. Garrett,
Federal Register Liaison Officer, U.S. Department of Energy.

[FR Doc. 2024-18378 Filed 8-15-24; 8:45 am]

BILLING CODE 6450-01-P